DEPARTMENT OF TRANSPORTATION

Federal Aviation Administration

14 CFR Part 39

[Docket No. 2002-NM-90-AD; Amendment 39-13785; AD 2004-18-07]

RIN 2120-AA64

Airworthiness Directives; BAE Systems (Operations) Limited Model BAe 146 and Avro 146-RJ Series Airplanes

AGENCY: Federal Aviation Administration, DOT.

ACTION: Final rule.

SUMMARY: This amendment supersedes an existing airworthiness directive (AD), applicable to certain BAE Systems (Operations) Limited Model BAe 146 and Avro 146-RJ series airplanes, that currently requires identifying the part numbers of discharge valves and cabin pressure controllers, and related investigative and corrective actions if necessary. This amendment requires identifying the part number of an additional cabin pressure controller, and related investigative and corrective actions if necessary. The actions specified by this AD are intended to prevent the installation of incorrect pressurization discharge valves and cabin pressure controllers, which could subject the airframe to excess stress and adversely affect the airframe fatigue life. This action is intended to address the identified unsafe condition.

DATES: Effective October 13, 2004.

The incorporation by reference of a certain publication listed in the regulations is approved by the Director of the Federal Register as of October 13, 2004.

The incorporation by reference of a certain other publication listed in the regulations was approved previously by the Director of the Federal Register as of September 10, 2001 (66 FR 40864, August 6, 2001).

ADDRESSES: The service information referenced in this AD may be obtained from British Aerospace Regional Aircraft American Support, 13850 Mclearen Road, Herndon, Virginia 20171. This information may be examined at the Federal Aviation Administration (FAA), Transport Airplane Directorate, Rules Docket, 1601 Lind Avenue, SW., Renton, Washington; or at the National Archives and Records Administration (NARA). For information on the availability of this material at NARA, call (202) 741-6030, or go to: http://www.archives.gov/federal_register/code_of_federal_regulations/ibr_locations.html.

FOR FURTHER INFORMATION CONTACT: Todd Thompson, Aerospace Engineer, International Branch, ANM-116, FAA, Transport Airplane Directorate, 1601 Lind Avenue, SW., Renton, Washington 98055-4056; telephone (425) 227-1175; fax (425) 227-1149.

SUPPLEMENTARY INFORMATION: A proposal to amend part 39 of the Federal Aviation Regulations (14 CFR part 39) by superseding AD 2001-15-23, amendment 39-12358 (66 FR 40864, August 6, 2001), which is applicable to certain BAE Systems (Operations) Limited Model BAe 146 and Avro 146-RJ series airplanes, was published in the Federal Register on June 21, 2004 (69 FR 34312). The action proposed to continue to require identifying the part numbers of discharge valves and cabin pressure controllers, and related investigative and corrective actions if necessary. The action also proposed to require identifying the part number of an additional cabin pressure controller, and related investigative and corrective actions if necessary.

Comments

Interested persons have been afforded an opportunity to participate in the making of this amendment. No comments were submitted in response to the proposal or the FAA's determination of the cost to the public.

Conclusion

The FAA has determined that air safety and the public interest require the adoption of the rule as proposed.

Explanation of Change Made to Final Rule

We inadvertently omitted a paragraph identifier in the proposed AD. We have revised this final rule to identify that paragraph as paragraph (d) of this AD, and have reidentified subsequent paragraphs accordingly.

Cost Impact

There are approximately 20 airplanes of U.S. registry that will be affected by this AD.

The actions that are currently required by AD 2001-15-23 and continued in this AD take approximately 3 work hours per airplane to accomplish, at an average labor rate of $65 per work hour. Based on these figures, the cost impact of the currently required actions on U.S. operators is estimated to be $3,900, or $195 per airplane.

The new actions that are required in this AD will take approximately 3 work hours to accomplish, at an average labor rate of $65 per work hour. Based on these figures, the cost impact of the new requirements on U.S. operators is estimated to be $3,900, or $195 per airplane.

The cost impact figures discussed above are based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-12358 (66 FR 40864, August 6, 2001), and by adding a new airworthiness directive (AD), amendment 39-13785, to read as follows:

2004-18-07 BAE Systems (Operations) Limited (Formerly British Aerospace Regional Aircraft): Docket 2002-NM-90-AD. Supersedes AD 2001-15-23, Amendment 39-12358.

Applicability: Model BAe 146 and Avro 146-RJ series airplanes, certificated in any category, as listed in BAE Systems (Operations) Limited Inspection Service Bulletin ISB.21-155, dated February 15, 2002.

Compliance: Required as indicated, unless accomplished previously.

To prevent the installation of incorrect pressurization discharge valves and cabin pressure controllers, which could subject the airframe to excess stress and adversely affect the airframe fatigue life, accomplish the following:

Restatement of Certain Requirements of AD 2001-15-23

Part Identification

(a) As specified in paragraph (a)(1) or (a)(2) of this AD, as applicable: Identify the part numbers of the pressurization discharge valves and cabin pressure controllers to determine if any installed part is incorrect, as defined by and in accordance with BAe Systems (Operations) Limited Inspection Service Bulletin ISB.21-148, Revision 1, dated February 6, 2001; or BAE Systems (Operations) Limited Inspection Service Bulletin ISB.21-155, dated February 15, 2002. As of the effective date of this AD, only BAE Systems (Operations) Limited Inspection Service Bulletin ISB.21-155 may be used.

(1) For airplanes post-Modification HCM50258A: Identify the part numbers within 30 days after September 10, 2001 (the effective date of AD 2001-15-23, amendment 39-12358); and, if any part is incorrect, limit the airplane ceiling to 31,000 feet until the incorrect part is replaced, as specified by paragraph (c) of this AD.

(2) For airplanes pre-Modification HCM50258A: Identify the part numbers within 6 months after September 10, 2001.

New Requirements of This AD

Part Identification

(b) For airplanes on which the requirements of BAe Systems (Operations) Limited Inspection Service Bulletin ISB.21-148, dated Revision 1, dated February 6, 2001, were accomplished: At the times specified in paragraph (b)(1) or (b)(2) of this AD, as applicable, identify the part number of the cabin pressure controller calibrated in inches of mercury to determine if any installed part is incorrect, in accordance with the Accomplishment Instructions of BAE Systems (Operations) Limited Inspection Service Bulletin ISB.21-155, dated February 15, 2002.

(1) For airplanes post-Modification HCM50258A: Identify the part numbers within 30 days after the effective date of this AD; and, if any part is incorrect, limit the airplane ceiling to 31,000 feet until the incorrect part is replaced as specified by paragraph (c) of this AD.

(2) For airplanes pre-Modification HCM50258A: Identify the part numbers within 6 months after the effective date of this AD.

Corrective Action

(c) For any incorrect part identified in accordance with paragraph (a) or (b) of this AD: Within 500 flight cycles after identification of the part number, replace the part with a new, correct part, in accordance with the Accomplishment Instructions of BAe Systems (Operations) Limited Inspection Service Bulletin ISB.21-148, Revision 1, dated February 6, 2001; or BAE Systems (Operations) Limited Inspection Service Bulletin ISB.21-155, dated February 15, 2002. As of the effective date of this AD, only BAE Systems (Operations) Limited Inspection Service Bulletin ISB.21-155 may be used.

(d) After installation of a correct part, prior to further flight, do a structural inspection and accomplish any applicable corrective actions, in accordance with a method approved by the Manager, International Branch, ANM-116, Transport Airplane Directorate, FAA; or the Civil Aviation Authority (CAA) (or its delegated agent).

Credit for Accomplishment of Previous Actions

(e) Accomplishment of the actions specified in this AD in accordance with BAe Systems (Operations) Limited Inspection Service Bulletin ISB.21-148, dated November 17, 2000, is acceptable for compliance with the corresponding actions required by this AD.

Submission of Inspection Results and Parts Not Required

(f) Although the service bulletins referenced in this AD specify to submit information to the airplane manufacturer, and to return certain parts to the part manufacturer, this AD does not include such a requirement.

Alternative Methods of Compliance

(g)(1) In accordance with 14 CFR 39.19, the Manager, International Branch, ANM-116, is authorized to approve alternative methods of compliance for this AD.

(2) Alternative methods of compliance, approved previously in accordance with AD 2001-15-23, amendment 39-12358, are approved as alternative methods of compliance with the applicable actions in this AD.

Incorporation by Reference

(h) Unless otherwise specified by this AD, the actions shall be done in accordance with BAE Systems (Operations) Limited Inspection Service Bulletin ISB.21-155, dated February 15, 2002; and BAe Systems (Operations) Limited Inspection Service Bulletin ISB.21-148, Revision 1, dated February 6, 2001; as applicable.

(1) The incorporation by reference of BAE Systems (Operations) Limited Inspection Service Bulletin ISB.21-155, dated February 15, 2002, is approved by the Director of the Federal Register in accordance with 5 U.S.C. 552(a) and 1 CFR part 51.

(2) The incorporation by reference of BAe Systems (Operations) Limited Inspection Service Bulletin ISB.21-148, Revision 1, dated February 6, 2001, was previously approved by the Director of the Federal Register as of September 10, 2001 (66 FR 40864, August 6, 2001).

(3) Copies may be obtained from British Aerospace Regional Aircraft American Support, 13850 Mclearen Road, Herndon, Virginia 20171. Copies may be inspected at the FAA, Transport Airplane Directorate, 1601 Lind Avenue, SW., Renton, Washington; or at the National Archives and Records Administration (NARA). For information on the availability of this material at NARA, call (202) 741-6030, or go to: http://www.archives.gov/federal_register/code_of_federal_regulations/ibr_locations.html.

Note 1: The subject of this AD is addressed in British airworthiness directive 004-02-2002.

Effective Date

(i) This amendment becomes effective on October 13, 2004.

Issued in Renton, Washington, on August 26, 2004.
Kevin M. Mullin,
Acting Manager, Transport Airplane Directorate, Aircraft Certification Service.

[FR Doc. 04-20206 Filed 9-7-04; 8:45 am]

BILLING CODE 4910-13-P